NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 7, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001

E-mail: records.mgt@nara.gov.

Fax: (301) 837-3698

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Food and Nutrition Service (N1-462-04-3, 59 items, 56 temporary items). Electronic data, documentation, and paper and electronic outputs associated with the Regional Office Administered Program database, an electronic system used for payments related to grant programs, such as the national school lunch program. Also included are records relating to the web site that pertains to these programs. Proposed for permanent retention are selected paper outputs, including claims summaries and earnings and payments reports.

2. Department of Agriculture, Food Safety and Inspection Service (N1-462-04-7, 7 items, 7 temporary items). Inputs, master files, outputs, and documentation associated with an electronic system used to manage testing of samples at laboratories. Also included are electronic copies of records created using electronic mail and word processing.

3. Department of Agriculture, Food Safety and Inspection Service (N1-462-04-8, 7 items, 7 temporary items). Inputs, master files, outputs, and documentation associated with an electronic system used to test for antibiotic residues at slaughter establishments. Electronic copies of records created using electronic mail and word processing are also included.

4. Department of Agriculture, Food Safety and Inspection Service (N1-462-04-9, 7 items, 7 temporary items). Inputs, master files, outputs, and documentation associated with an electronic system containing information on microbiological, chemical, and pathological analyses of domestic and imported meat, poultry, and processed products. Electronic copies of records created using electronic mail and word processing are also included.

5. Department of Agriculture, Food Safety and Inspection Service (N1-462-04-13, 7 items, 7 temporary items). Inputs, master files, outputs, and documentation associated with an electronic system containing data used to alert agency managers that a facility may warrant investigation. Electronic copies of records created using electronic mail and word processing are also included.

6. Department of Agriculture, Food Safety and Inspection Service (N1-462-04-15, 7 items, 7 temporary items). Inputs, master files, outputs, and documentation associated with an electronic system containing information concerning reviews of businesses engaged in the transportation, storage, and distribution of meat and poultry products after they leave Federally-inspected establishments. Electronic copies of records created using electronic mail and word processing are also included.

7. Department of the Army, Agency-wide (N1-AU-04-6, 2 items, 2 temporary items). Records of the Army Family Building Program which is used to meet the educational needs of Army spouses and family members. Included are plans, surveys, reviews, training materials, reports, and related records. Also included are electronic copies of records created using electronic mail and word processing.

8. Department of Transportation, Federal Highway Administration (N1-406-04-4, 1 item, 1 temporary item). Reference files consisting of copies of news clippings, journal and magazine articles, academic papers, newsletters, brochures, press releases, memorandums, correspondence, and other items. Records relate to the history of the agency and its predecessor, the Bureau of Public Roads. Before disposal, records will be offered for donation to a non-Federal archival institution.

9. Department of the Treasury, Financial Management Service (N1-425-04-3, 5 items, 5 temporary items). Inputs, outputs, system documentation, and master files of the Surety Information Management System. This system supports qualification reviews of companies proposing to do surety bonding business with the Federal Government.

10. Dayton Aviation Heritage Commission, Agency-wide (N1-220-04-10, 16 items, 9 temporary items). Committee working files, photographs that lack captions, financial management files, budget files, contract files, administrative records, and reference files. Also included are electronic copies of records created using electronic mail and word processing. Proposed for permanent retention are recordkeeping copies of Commission meeting files, including agendas, minutes, and reports, policy files, cooperative agreements and institutional relations files, project subject files, publicity materials, reports, and photographs of flight activities.

11. Environmental Protection Agency, Office of Enforcement and Compliance Assurance (N1-412-04-10, 2 items, 2 temporary items). Records relating to the environmental impact of non-governmental activities, including tourism, on Antarctica. Also included are electronic copies of documents created using electronic mail and word processing.

12. Environmental Protection Agency, Office of Environmental Information (N1-412-04-11, 8 items, 5 temporary items). Electronic and paper inputs and software programs associated with the Toxic Chemical Release Inventory, which contains information on toxic chemical releases and other waste management activities. Also included are the trade secret claims tracking system and electronic copies of records created using word processing and electronic mail. Proposed for permanent retention are recordkeeping copies of trade secret claims, the electronic data contained in the Toxic Chemical Release Inventory, and the associated documentation.

Dated: August 16, 2004.
Michael J. Kurtz,
Assistant Archivist for Records Services—Washington, DC.

[FR Doc. 04-19222 Filed 8-20-04; 8:45 am]

BILLING CODE 7515-01-P